DEPARTMENT OF TRANSPORTATION

Surface Transportation Board

[STB Finance Docket No. 34418]

CSX Transportation, Inc.—Trackage Rights Exemption—Norfolk Southern Railway Company

Pursuant to a written trackage rights agreement dated June 20, 2003, Norfolk Southern Railway Company (NSR) has agreed to grant trackage rights to CSX Transportation, Inc. (CSXT), over approximately 21.3 miles of rail line in the Cincinnati, OH area. The trackage rights are between: (1) Milepost CF 30.9 at Butler Street and milepost CF 17.15 at Vaughn, a distance of 13.75 miles; (2) milepost BE 4.0 at Hopple Street and milepost BE 2.7 at Mitchell Avenue, a distance of 1.3 miles; and (3) milepost CJ 248.75 and the connection with CSXT at NA Tower/Ivorydale Junction at milepost CJ 255.00, a distance of 6.25 miles.

Although CSXT states that the transaction was scheduled to be consummated on October 21, 2003, the earliest the transaction could be consummated was October 22, 2003 (7 days after filing the notice).

The purpose of the trackage rights is to allow CSXT and NSR to operate more efficiently by instituting a directional running arrangement over each others lines.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34418, must be filed with the Surface Transportation Board, 1925 K Street, NW., Washington, DC 20423-0001. In addition, a copy of each pleading must be served on Natalie S. Rosenberg, CSX Transportation, Inc., 500 Water St., J150, Jacksonville, FL 32202.

Board decisions and notices are available on our Web site at http//www.stb.dot.gov.

Decided: October 28, 2003.
By the Board, David M. Konschnik, Director, Office of Proceedings.
Vernon A. Williams,
Secretary.

[FR Doc. 03-27592 Filed 11-3-03; 8:45 am]

BILLING CODE 4915-00-P